FEDERAL COMMUNICATIONS COMMISSION

Notice of Public Information Collection(s) Being Submitted for Review to the Office of Management and Budget

June 26, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 7, 2006. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or an e-mail to PRA@fcc.gov. If you would like to obtain or view a copy of this information collection, you may do so by visiting the FCC PRA web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-1058.

Title: FCC Wireless Telecommunications Bureau Application or Notification for Spectrum Leasing Arrangement or Private Commons Arrangement.

Form No.: FCC Form 608 (formerly known as FCC Form 603-T).

Type of Review: Revision of a currently approved collection.

Respondents: Business or other for-profit, not-for-profit institutions, and state, local or tribal government.

Number of Respondents: 1,490.

Estimated Time per Response: 1-4 hours.

Frequency of Response: On occasion reporting requirement, recordkeeping requirement and third party disclosure requirement.

Total Annual Burden: 6,010 hours.

Total Annual Cost: $846,600.

Privacy Act Impact Assessment: N/A.

Needs and Uses: The Commission is submitting this information collection to OMB as a revision in order to obtain the full three-year clearance from them.

The Commission adopted and released a Second Report and Order (R&O) in FCC 04-167, WT Docket No. 00-230, which set out regulations and procedures that removed unnecessary barriers that inhibited the development of secondary markets in spectrum usage rights. Specifically, the R&O promoted the wider use of “spectrum leasing” by facilitating the ability of licensees in the Wireless Radio Services that hold “exclusive” authority to lease some or all of their spectrum usage rights to third parties for any amount spectrum and in any geographic area encompassed by the license, for any period of time within the terms of the license. In essence, the Commission has replaced the existing standard for assessing de facto control with an updated standard applicable for spectrum leasing that better accommodates evolutionary developments in the Commission's spectrum policies, technological advances, and marketplace trends. In the interest of administrative efficiency, the Commission now has created FCC Form 608 (formerly FCC Form 603-T) that pertains specifically to spectrum leasing arrangements. We recognize that, due to the transaction costs associated with leasing or other market factors, licensees and other parties may wish to utilize other types of arrangements involving opportunistic use of licensed spectrum. To that end, we adopt a “private commons” option distinct from either spectrum leases or other existing arrangements. The private commons option may be particularly well suited to meet the unique needs of market participants that incorporate “smart” or “opportunistic” use technologies within their bands.

Federal Communications Commission.
William F. Caton,
Deputy Secretary.

[FR Doc. E6-10477 Filed 7-5-06; 8:45 am]

BILLING CODE 6712-01-P